DEPARTMENT OF TRANSPORTATION

Federal Highway Administration

Notice of Final Federal Agency Action on Proposed Interchange in Georgia, Interstate 16 (I-16) at Old Cuyler Road, Bryan County, Georgia

AGENCY: Federal Highway Administration (FHWA), Department of Transportation (DOT).

ACTION: Notice of limitations on claims for judicial review of action by FHWA and other Federal agencies.

SUMMARY: This notice announces actions taken by FHWA and other Federal agencies that are final. This final agency action relates to a proposed new interchange project, the I-16 at Old Cuyler Road Interchange Project, along I-16 at Old Cuyler Road southeast of the existing County Road (CR) 11/Jernigan Road overpass. On the south side, the project will tie into a realigned Cuyler Road; on the north side, the project will terminate at the existing Old Cuyler Road intersection with Jernigan Road in Bryan County, Georgia. The length of the proposed project is approximately 1.2 miles. The FHWA's Finding of No Significant Impact (FONSI) provides details on the Selected Alternative for the proposed interchange.

DATES: By this notice, FHWA is advising the public of the final agency actions subject to 23 U.S.C. 139(l)(1). A claim seeking judicial review of the Federal agency actions on the highway project will be barred unless the claim is filed on or before January 3, 2025. If the Federal law that authorizes judicial review of a claim provides a time period of less than 150 days for filing such claim, then that shorter time period still applies.

FOR FURTHER INFORMATION CONTACT: For FHWA: Ms. Sabrina David, Division Administrator, Georgia Division, Federal Highway Administration, 75 Ted Turner Drive, Suite 1000, Atlanta, Georgia 30303; telephone 404-562-3630; email: Sabrina.David@dot.gov. FHWA's normal business hours are 8:00 a.m. to 5:00 p.m. (eastern time) Monday through Friday. For Georgia Department of Transportation (GDOT): Mr. Russell McMurray, Commissioner, Georgia Department of Transportation, 600 West Peachtree Street, 22nd Floor, Atlanta, Georgia 30308; telephone (404) 631-1990; email: RMcMurray@dot.ga.gov. GDOT's normal business hours are 8:00 a.m. to 5:00 p.m. (eastern time) Monday through Friday.

SUPPLEMENTARY INFORMATION: Notice is hereby given that FHWA has taken a final agency action subject to 23 U.S.C. 139(l)(1) by issuing a FONSI for the following new highway project in the State of Georgia: The I-16 at Old Cuyler Road Interchange Project located in Bryan County, Georgia. The Selected Alternative will construct a new interchange along I-16 at Old Cuyler Road. Old Cuyler and Cuyler Roads will be realigned and reconstructed over I-16, including the construction of a new bridge over I-16. The new interchange project will also tie into a new frontage road just east of Jernigan Road and will extend this road along the south side of I-16 to a multi-lane roundabout with the realigned Cuyler Road. Multi-lane roundabouts will also be located at the eastbound and westbound I-16 ramp termini. The length of the construction is approximately 1.2 miles.

The purpose of the project is listed below:

• Provide new, direct vehicular access to I-16, which will serve current and projected future vehicular and truck traffic.

• Provide congestion relief for the existing I-16/US 280 interchange to the west, which is not anticipated to have sufficient capacity to accommodate projected traffic volumes by 2047.

• Accelerate project delivery.

The FHWA's action, related actions by other Federal agencies, and the laws under which such actions were taken, are described in the Environmental Assessment (EA) for the project, approved on January 9, 2024, the FONSI issued on July 24, 2024, and other documents in the project file. The EA, FONSI and other project records are available by contacting FHWA or the Georgia Department of Transportation at the addresses listed in the FOR FURTHER INFORMATION CONTACT section of this notice. The EA and FONSI can also be reviewed and downloaded from the project website at https://bit.ly/US280-16atOldCuylerRd.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Noise: Noise Control Act of 1972 [42 U.S.C. 4901-4918]; 23 CFR part 772.

4. Land: Section 4(f) of the Department of Transportation Act of 1966 [49 U.S.C. 303].

5. Wildlife: Endangered Species Act (ESA) [16 U.S.C. 1531-1544 and Section 1536]; Fish and Wildlife Coordination Act [16 U.S.C. 661-667d]; Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469c]; Native American Grave Protection and Repatriation Act (NAGPRA) [25 U.S.C. 3001-3013].

7. Social and Economic: Civil Rights Act of 1964 [42 U.S.C. 2000(d)-2000(d)(1)]; American Indian Religious Freedom Act [42 U.S.C. 1996]; Farmland Protection Policy Act (FPPA) [7 U.S.C. 4201-4209].

8. Wetlands and Water Resources: Coastal Zone Management Act [16 U.S.C. 1451-1465]; Land and Water Conservation Fund (LWCF) [16 U.S.C. 4601-4604]; Safe Drinking Water Act (SDWA) [42 U.S.C. 300(f)-300(j)(6)]; Wild and Scenic Rivers Act [16 U.S.C. 1271-1287]; Flood Disaster Protection Act [42 U.S.C. 4001-4128].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 14096 Revitalizing Our Nation's Commitment to Environmental Justice for All; E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13045 Protection of Children From Environmental Health Risks and Safety Risks; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Sabrina S. David,
Division Administrator, Atlanta, Georgia.

[FR Doc. 2024-17358 Filed 8-5-24; 8:45 am]

BILLING CODE 4910-RY-P